DEPARTMENT OF DEFENSE

Office of the Secretary

[Docket No. 2014-0049]

Notice of Industry Meeting

AGENCY: Department of Defense (DoD).

ACTION: Notice of industry meeting.

SUMMARY: DoD announces a meeting open to representatives of athletic shoe manufacturers to address DoD policy with regard to applicability of the Berry Amendment to athletic shoes for recruits at basic training.

DATES: September 4, 2014, 3:00-5:00 p.m., EDT.

ADDRESSES: The meeting will be held at the Pentagon, Washington, DC 20301; Pentagon Conference Center, Conference Room B3. Please limit attendance to two (2) individuals representing a single company and RSVP to the point of contact listed below not later than August 29, 2014 with the following minimum information: Name; Contact Information (email and phone number); Company you are representing; and Country of citizenship. Individuals visiting the Pentagon must adhere to the following security instructions when entering the facility: http://www.pfpa.mil/access.html. Visitors will enter the Pentagon from the Metro Entrance and will require an escort at all times within the facility. Attendees are encouraged to arrive at least 30 minutes early to accommodate security procedures.

FOR FURTHER INFORMATION CONTACT: Office of the Director, Defense Procurement and Acquisition Policy, ATTN: Mr. Jeff Grover, OUSD(AT&L)DPAP/CPIC, 3060 Defense Pentagon, Washington, DC 20301-3060. Mr. Jeff Grover may be contacted by email at jeffrey.c.grover.civ@mail.mil or by telephone at 703-697-9352. Please cite athletic shoe industry meeting.

SUPPLEMENTARY INFORMATION: 10 U.S.C. 2533a, popularly known as the “Berry Amendment”, prohibits the Department of Defense (DoD) from using funds appropriated or otherwise available to it for the procurement of certain items if those items are not grown, reprocessed, reused, or produced in the United States. Articles of clothing, such as athletic shoes, are normally covered by the prohibition if procured on a Department of Defense (DoD) contract using appropriated funds. See DoD policy with respect to athletic shoes offered to recruits at basic training at: http://www.acq.osd.mil/dpap/cpic/docs/OSD004508-14%20FOD.pdf. This industry meeting will provide information relating to this policy and is open to representatives of athletic shoe manufacturers (Federal Supply Classification (FSC) Code: 84—Clothing, Individual Equipment, and Insignia; National American Industry Classification System (NAICS) Code: 316—Leather and Allied Product Manufacturing/316210—Footwear Manufacturing; Standard Industrial Classification (SIC) Code: 3149).

Special accommodations: The public meeting is physically accessible to people with disabilities. Requests for reasonable accommodations, sign language interpretation or other auxiliary aids should be directed to Mr. Jeff Grover at 703-697-9352, at least 10 working days prior to the meeting date.

Manuel Quinones,
Editor, Defense Acquisition Regulations System.

[FR Doc. 2014-19181 Filed 8-12-14; 8:45 am]

BILLING CODE 5001-06-P